ENVIRONMENTAL PROTECTION AGENCY

[FRL-6721-4]

Agency Information Collection Activities: Proposed Collection; Comment Request; 2001 Hazardous Waste Report (Biennial Report), Notification of Regulated Waste Activity, and RCRA Part A Permit Application Information Collection Requests

AGENCY: Environmental Protection Agency (EPA).

ACTION: Notice.

SUMMARY: EPA is planning to submit the following continuing Information Collection Requests (ICR) to the Office of Management and Budget (OMB): 2001 Hazardous Waste Report (Biennial Report), 976.08, OMB Control Number 2050-0024, expiration date November 30, 2000. EPA is planning to submit modifications to the Notification of Regulated Waste Activity ICR, 261.12, OMB Control Number 2050-0028, expiration date 12/31/02; and the RCRA Part A Permit Application ICR, 262.09, OMB Control Number 2050-0034, expiration data 10/31/02. Before submitting this ICR and the ICR modifications to OMB for review and approval, EPA is requesting comment on the issues described below.

DATES: Comments must be submitted on or before August 22, 2000.

ADDRESSES: Commenters must send an original and two copies of their comments referencing docket number F-2000-B3IP-FFFFF to: (1) If using regular U.S. Postal Service mail: RCRA Docket Information Center, Office of Solid Waste (5305G), U.S. Environmental Protection Agency Headquarters (EPA, HQ), Ariel Rios Building, 1200 Pennsylvania Avenue, NW., Washington, DC 20460-0002, or (2) if using special delivery, such as overnight express service: RCRA Docket Information Center (RIC), Crystal Gateway One, 1235 Jefferson Davis Highway, First Floor, Arlington, VA 22202. Comments may also be submitted electronically through the Internet to: rcra-docket@epa.gov. Comments in electronic format should also be identified by the docket number F-2000-B3IP-FFFFF and must be submitted as an ASCII file, avoiding the use of special characters and any form of encryption.

Commenters should not submit electronically any confidential business information (CBI). An original and two copies of CBI must be submitted under separate cover to: RCRA CBI Document Control Officer, Office of Solid Waste (5305W), U.S. EPA, Ariel Rios Building, 1200 Pennsylvania Avenue, NW, Washington, DC 20460-0002.

Public comments and supporting materials are available for viewing in the RCRA Information Center (RIC), located at Crystal Gateway I, First Floor, 1235 Jefferson Davis Highway, Arlington, VA. The RIC is open from 9 a.m. to 4 p.m., Monday through Friday, excluding federal holidays. To review docket materials, it is recommended that the public make an appointment by calling 703-603-9230. The public may copy a maximum of 100 pages from any regulatory docket at no charge. Additional copies cost $0.15/page. The index and some supporting materials are available electronically.

The official record for this action will be kept in paper form. Accordingly, EPA will transfer all comments received electronically into paper form and place them in the official record, which will also include all comments submitted directly in writing. EPA will not immediately reply electronically to commenters other than to seek clarification of electronic comments that may be garbled in transmission or during conversion to paper form.

FOR FURTHER INFORMATION CONTACT: For general information, contact the RCRA Hotline at 800-424-9346 or TDD 800-553-7672 (hearing impaired). In the Washington, DC, metropolitan area, call 703-412-9810 or TDD 703-412-3323. For detailed information, contact Robert Burchard, Office of Solid Waste, 5302W, U.S. Environmental Protection Agency, Ariel Rios Building, 1200 Pennsylvania Avenue, NW., Washington, DC 20460-0002; phone number 703-308-8450, fax: 703-308-8433, Internet: burchard.robert@epa.gov.

SUPPLEMENTARY INFORMATION: Affected entities: Entities affected by this action are those which generate and treat, store, and dispose of hazardous waste.

Title: 2001 Hazardous Waste Report (Biennial Report), 976.08, OMB Control Number 2050-0024, expiration date November 30, 2000.

Abstract: Generators of hazardous waste and owners/operators of hazardous waste facilities must complete, under the authority of RCRA sections 3002 and 3004, a biennial report on the amount of waste generated in the United States, a description of the waste, and how it was managed.

EPA uses this information to understand the population of the regulated community, to expand its database of information for rulemakings, and for monitoring compliance with regulatory requirements.

Title: Notification of Regulated Waste Activity, 262.12, OMB Control Number 2050-0028, expires 12/31/02.

Abstract: Persons who generate, transport, treat, store, or dispose of hazardous waste and all persons who store recyclable materials prior to recycling them are required to notify EPA of their hazardous waste activities using this form.

EPA uses this information to understand the population of the regulated community and to obtain the information necessary to provide facilities with a RCRA ID.

Title: RCRA Part A Permit Application, 262.09, OMB Control Number 2050-0034, expires 10/31/02.

Abstract: RCRA requires anyone who owns or operates a facility where hazardous waste is treated, stored or disposed to have a RCRA hazardous waste permit issued by EPA. The part A is the first of two parts of the permit application.

EPA may not conduct or sponsor, and a person is not required to respond to, a collection of information unless it displays a valid OMB control number. OMB control numbers for EPA are listed in 40 CFR part 9 and 48 CFR chapter 15.

EPA would like comments to:

(i) Evaluate whether the proposed collection of information is necessary for the performance of the functions of EPA;

(ii) Evaluate the accuracy of the our estimate of the burden the proposed collection of information will impose;

(iii) Enhance the quality, utility, and clarity of the information to be collected; and

(iv) See how we can minimize the burden the proposed collection of information will impose, such as through electronic collection techniques.

Detailed Discussion of Planned Changes to the 2001 Biennial Report, the Notification of Regulated Waste Activity, and the RCRA Part A Permit Application

I. Background to Today's Planned Changes

In response to the concerns raised over the years about a lack of a comprehensive strategy in the way EPA's Office of Solid Waste (OSW) collects hazardous waste information, the WIN/Informed Initiative was created by the states and OSW to develop and implement a solution. WIN stands for Waste Information Needs, and is the OSW portion of the project. Informed stands for Information Needed for Making Environmental Decisions, and is the state portion of the project.

The objective of this Initiative is to assess the information needs of the hazardous waste program, assess the way information is managed, and make recommendations for improvement. WIN/Informed also has been tasked with making the changes that will improve the collection, quality, use, and management of hazardous waste information, and to make that information more available to states, EPA, Tribes, and the public.

Today's Federal Register notice presents a set of recommendations from WIN/Informed. These recommendations affect the Hazardous Waste Report (Biennial Report), the Notification of Regulated Waste Activity (Notification), and the RCRA Part A Permit Application (part A). These ICRs are being modified at the same time because the changes we are recommending complement each other. The changes to the Biennial Report will be implemented (with the one exception discussed below) in 2001. The changes in the Notification and part A forms will be implemented the next time their ICRs are renewed (in 2002).

Today's notice summarizes the WIN/Informed recommendations. They are presented fully in a background document available on the Internet. The Internet site addresses is: http://www.epa.gov/epaoswer/hazwaste/data/brs01/icr.htm

II. Detailed Recommendations

(1) Standardizing Site Identification Information

Background: Information about a site and the hazardous waste activities taking place there is used by regulators for waste activity and compliance monitoring, for program planning, to provide technical assistance, and to analyze waste minimization activities.

This information is currently being collected on three different forms, each with its own instructions and definitions. This sometimes gives regulators conflicting information about the same site, and is burdensome for respondents.

Basic site information is collected from all RCRA-regulated facilities on the Notification form. Generators and Treatment, Storage, and Disposal Facilities(TSDFs) report site information on the Biennial Report Identification and Certification (IC) form. Facilities that treat, store or dispose of hazardous waste submit site information on the part A.

Recommendation: We plan to standardize the RCRA site identification information that is collected on the three forms. This means that the site identification information prepared for one form will be the exact same site identification information asked for on the other two forms. Once a facility has submitted this information once, the facility can just attach a copy of the previous submittal (with any changes) when facility identification information is requested again.

We plan to include as part of the site identification data elements the North American Industrial Classification System (NAICS) codes, which have replaced the Standard Industrial Classification (SIC) codes. Additionally, we will also ask about mixed waste and universal waste activity at the facility, and whether the facility imports waste.

A chart showing the information we will ask for as part of the standardized RCRA site identification is available on the Internet at: http://www.epa.gov/epaoswer/hazwaste/data/brs01/icr.htm.

The chart is in the file: “2001 Hazardous Waste Report (Biennial Report), Part A Permit Application, and Notification of Regulated Waste Activity Information Collection Request.” Detailed discussion of this recommendation is found in Recommendations 7, 8, and 9 of the Internet document.

(2) Obtain for the EPA National Database Information on Generators, as Defined by Both RCRA and State Definitions

Background: The following discussion concerns how states will report data, and does not change respondents' reporting obligations. The federal rules in 40 CFR parts 261 and 262 establish three categories of hazardous waste generator: Large Quantity Generators (LQGs), Small Quantity Generators (SQGs), and Conditionally Exempt Small Quantity Generators (CESQGs). A site's RCRA generator status is based on the volume of hazardous waste generated, and/or accumulated during any month of the year. Both LQGs and SQGs must notify the implementing agency of their activities and obtain an EPA identification number. CESGQs are exempt from these two requirements, as well as many of the other hazardous waste requirements. RCRA section 3009 requires state hazardous waste rules to be at least as stringent as federal rules, but it also allows state rules to be broader in scope and more stringent than the federal rules. For example, a state:

• May impose regulatory obligations for LQGs on facilities generating less than 1,000 kilograms of hazardous waste in a month, (this is more stringent than the federal rules).

• May regulate wastes not regulated by the federal rules (this is broader in scope).

• May require CESQGs to obtain an EPA identification number (this is broader in scope).

States need to know the regulatory status of a generator as defined by their rules. However, since states have different definitions of generators, it is more useful for EPA to use the federal definition when performing analyses of data from multiple states.

Recommendation: States will report to EPA their total generator universe, as defined by their state rules. They will also, to the best of their abilities, report to EPA their total generator universe as defined by RCRA. This will provide the following benefits:

• Including the state-defined generators in the RCRA national database will provide a more complete picture of the number of waste generators in the country being regulated.

• With both sets of generators in the national database, the concerns regarding different generator universe numbers (EPA versus state numbers) will be resolved.

• EPA inspectors will be able to better determine which regulations (state or EPA) apply to a generator they are inspecting.

There will be no changes to the part A or Biennial Report forms.

Planned Biennial Report instructions revisions are on the Internet at: http://www.epa.gov/epaoswer/hazwaste/data/brs01/icr.htm.

See the file: “2001 Hazardous Waste Report (Biennial Report), Part A Permit Application, and Notification of Regulated Waste Activity Information Collection Request.” Detailed discussion of this recommendation is found in Recommendation 6 of the Internet document.

(3) Tracking Hazardous Waste Exports

Background: Generators exporting hazardous waste must notify EPA of their intent to export their waste and submit an annual report about the waste they exported. EPA maintains a separate database for this information, called the Hazardous Waste Export Data System.

Recommendation: We plan to integrate data in the Hazardous Waste Export Data System into the national RCRA information system. This would eliminate the need to collect export data through the Biennial Report. The Biennial Report instructions will be changed to tell respondents that they should not be reporting exports as part of their Biennial Report submissions, reducing duplication and confusion.

Planned Biennial Report instructions revisions are on the Internet at: http://www.epa.gov/epaoswer/hazwaste/data/brs01/icr.htm. See the file: “2001 Hazardous Waste Report (Biennial Report), Part A Permit Application, and Notification of Regulated Waste Activity Information Collection Request.” Detailed discussion of this recommendation is found in Recommendation 13 of the Internet document.

(4) Tracking Hazardous Waste Imports

Background: A person who imports hazardous waste from a foreign country into the United States is, for regulatory purposes, the generator of the waste. Currently, there is no way to differentiate imported waste from waste generated in the receiving state. This makes waste generation totals for the state artificially high.

EPA and the states need to be able to determine whether hazardous waste is generated domestically or from a foreign source to obtain accurate generation totals and accurate import totals.

Recommendation: We plan to revise the Biennial Report instructions so that importers of hazardous waste will use a specific code to identify imported wastes.

Planned Biennial Report instructions revisions are on the Internet at: http://www.epa.gov/epaoswer/hazwaste/data/brs01/icr.htm. See the file: “2001 Hazardous Waste Report (Biennial Report), Part A Permit Application, and Notification of Regulated Waste Activity Information Collection Request.” Detailed discussion of this recommendation is found in Recommendation 14 of the Internet document.

(5) Clarify Types of Hazardous Wastes To Be Reported on the Biennial Report

Background: Interim status and permitted treatment, storage and disposal facilities report hazardous waste received from off-site, wastes accumulated onsite, wastes managed on-site, and shipments of hazardous waste off-site.

Large quantity generators report the hazardous waste that are generated, accumulated, and subsequently managed on-site or shipped off-site.

One complication to this reporting system is that 40 CFR parts 260 to 273 exempt specific hazardous wastes and distinct hazardous waste management processes from regulation. When these exemptions were crafted, the issue of whether the wastes involved should be reported in the Biennial Report was not addressed. This created uncertainty as to whether the wastes should be reported. EPA has provided guidance, but there has still been confusion about the issue. We are providing clarification in today's notice. We will consider comments on our position, and will issue more definitive guidance in the instructions for the 2001 Biennial Report.

Recommendation: The exemptions in 40 CFR parts 260 to 273 have their own regulatory histories and backgrounds, and as mentioned above, EPA often did not clarify whether the waste should be reported in the Biennial Report when the exemption was created. EPA, in consultation with a number of states and other stakeholders, considered various approaches to defining which wastes should be reported. We concluded that the simplest approach is to change the Biennial Report instructions to clarify that generators should report only the hazardous wastes which count toward the determination of their generator status. See 40 CFR 261.5(c) and (d).

A list of the specific exemptions is on the Internet site listed below. Examples include hazardous waste that is a specified recyclable material such as ethyl alcohol or scrap metal and hazardous wastes that are recycled on-site without prior storage or accumulation. If you are not sure whether your waste is exempt, check with your state. (Individual states may require reporting of items that the EPA has considered exempt, so it is important to check with your state.)

TSDFs should report hazardous waste received from off-site, the management of the hazardous waste while on-site, and the shipments of hazardous waste off-site. In general, if a waste comes in to the TSDF accompanied by the Hazardous Waste Manifest, it is subject to the Biennial Report.

Planned Biennial Report instructions revisions are on the Internet at: http://www.epa.gov/epaoswer/hazwaste/data/brs01/icr.htm. See the file: “2001 Hazardous Waste Report (Biennial Report), Part A Permit Application, and Notification of Regulated Waste Activity Information Collection Request.” Detailed discussion of this recommendation is found in Recommendation 15 of the Internet document.

(6) Streamline Biennial Report Source, Origin, Form, and Management Codes

Background: A review of the information needs identified by WIN/Informed suggests that the existing Biennial Report Source, Origin, Form and Management codes could be streamlined to improve the usefulness of the information we receive. We plan to:

• Consolidate, regroup, and merge current Source codes with the current Origin codes.

• Revise Form codes so that there would be 47 codes instead of 89.

• Eliminate overlap between Management Method and Form codes. Each is discussed below.

A. Combine Source and Origin Code

There is significant complexity in the way the existing Biennial Report Source and Origin codes are defined. This is a result of the overlap in the coverage of the two coding structures, and it has led to data quality and consistency problems.

Recommendation: The current Source codes will be consolidated, regrouped, and merged with the Origin codes to provide a simpler coding structure. This approach should allow for more meaningful and consistent responses and reduce some of the reporting burden. This scheme will reduce the number of choices from 60 to 30 and the groups from 7 to 6. The planned coding structure is available on the Internet site listed below.

B. Simplify Form Codes

The physical form of a generated waste is collected on the Biennial Report using 89 specific codes in 9 high-level groups. This is the most elaborate of the Biennial Reporting coding structures, and the most difficult for respondents to use, and for information users to analyze.

Recommendation: The new Form codes we are considering combine similar existing codes, using the information included in the waste code descriptions to reduce the complexity and overlap of information between the two. This new coding system maintains the level of information needed by EPA and the states. Wastes will be better described and categorized. This will decrease confusion for the reporters.

The table providing the planned coding structure is available on the Internet site listed below. The number of Form codes is reduced from 89 to 47, with 7 high level groups. In some cases, there is not an exact translation from the old Form codes to the new ones, but for most, there is a path to ensure continuity for trend analysis.

C. Revise Management Method Codes to Eliminate Overlap

The current Management Method coding structure both duplicates and conflicts with the current Form codes. For example, there are five distinct Management Method codes for waste incineration, depending on the physical form of the waste being incinerated. This leads to such reporting anomalies as a waste of the physical form B201 (concentrated solvent-water solution) being managed by system M043 (incineration—solids).

Recommendation: The existing Management Method coding structure will be revised to eliminate overlap with the Form codes. This revised coding structure is based in part on analysis of the frequency and perceived accuracy with which different Management method codes were reported in the 1995 BRS data. The impact of the Land Disposal Restrictions (LDR) treatment codes was also considered in establishing this list. This reduces the detailed list from 65 to 28 and the high-level groups from 14 to 4. We believe this recommendation will result in increased data accuracy and quality through reduced variation in response, and will decrease burden. A table with revised codes is available on the Internet site listed below.

Planned Biennial Report instructions revisions are on the Internet at: http://www.epa.gov/epaoswer/hazwaste/data/brs01/icr.htm. See the file: “2001 Hazardous Waste Report (Biennial Report), Part A Permit Application, and Notification of Regulated Waste Activity Information Collection Request.” Detailed discussion of this recommendation is found in Recommendation 16 of the Internet document.

(7) Removal of Data Elements From the Biennial Report

WIN/Informed recommended the elimination of a number of Biennial Report data elements. They are: Point of Measurement, Standard Industrial Classification (SIC), and Off-site availability, and for the 2003 cycle, Radioactive Mixed Waste.

A. Point of Measurement

The Point of Measurement on the Generation and Management (GM) form consists of four codes showing whether the waste being reported was mixed with other wastes prior to being measured. WIN/Informed identified no significant need for this information. Additionally, because the Point of Measurement is confusing to respondents, the data we receive is often of questionable quality. Thus, we plan to eliminate it.

B. Standard Industrial Classification (SIC)

Since we are proposing to add the North American Industrial Classification System (NAICS) codes (the replacement for the SIC codes) to the new RCRA Site Identification form, we plan to remove the SIC from the GM form.

C. Off-Site Availability

This code shows whether an off-site facility is a commercially-available TSDF, or if it is only permitted to accept wastes from firms owned by the same company. WIN/Informed did not find any need for this information, so we plan on eliminating it.

D. RCRA Radioactive Mixed Waste

The Biennial Report asks whether the waste being reported is a RCRA Radioactive Mixed Waste. WIN/Informed did not find a significant national need for this information. However, we learned that some existing EPA compliance agreements with federal facilities require this data for compliance monitoring. We determined that it would be disruptive to drop the requirement since it was being used in these limited areas. So, it will continue to be collected for the 2001 Biennial Report cycle. At this time, however, we are planning to remove it starting with the 2003 Biennial Report, as long as the compliance agreement information needs are able to be satisfied by another source of information.

Planned Biennial Report instructions revisions are on the Internet at: http://www.epa.gov/epaoswer/hazwaste/data/brs01/icr.htm.

See the file: “2001 Hazardous Waste Report (Biennial Report), Part A Permit Application, and Notification of Regulated Waste Activity Information Collection Request.” Detailed discussion of this recommendation is found in Recommendation 17 of the Internet document.

(8) Make the Source Code on the Biennial Report Mandatory

Currently, the Source Code is a data element on the Biennial Report that is voluntary to complete. We plan to make it mandatory to complete.

WIN/Informed identified a number of information needs that are met by the Source Code. Regulators need to be able to distinguish among the following types of hazardous wastes:

—Ongoing generation from production and service processes

—Residuals from on-site management

—One-time or sporadic generation (for example, discarding off-specification or out-of-date chemicals, process equipment change-out, lagoon drag-out)

—Generated by spills or accidental releases

—Generated by remediation of past contamination (this includes Superfund or state cleanups, RCRA closure or corrective action)

Within each of the categories, participants in WIN/Informed identified a need for detailed information on the specific industrial or waste management processes generating the wastes. With this recommendation, regulators will be dbetter able to target inspections.

Planned Biennial Report instructions revisions are on the Internet at: http://www.epa.gov/epaoswer/hazwaste/data/brs01/icr.htm. See the file: “2001 Hazardous Waste Report (Biennial Report), Part A Permit Application, and Notification of Regulated Waste Activity Information Collection Request.” Detailed discussion of this recommendation is found in Recommendation 25 of the Internet document.

III. Burden Statement

The following is an estimate of the total annual cost and hour burden to the regulated community for the changes described in this notice:

• Biennial Report currently: 164,303 hours and $24,723. Biennial Report with proposed changes: 158,027 hours and $24,671.

• Notification currently: 100,137 hours and $130,725. New RCRA Site ID form: 83,298 hours and $130,725.

• Part A currently: 945 hours and $424. Part A with changes: 893 hours and $424.

Burden means the total time, effort, or financial resources expended by persons to generate, maintain, retain, or disclose or provide information to or for a Federal or implementing agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information. EPA estimates that the changes discussed today, when implemented, will reduce burden by 23,000 hours and an insignificant number of dollars.

Dated: June 14, 2000.
Elizabeth Cotsworth,
Director, Office of Solid Waste.

[FR Doc. 00-15912 Filed 6-22-00; 8:45 am]

BILLING CODE 6560-50-P